DEPARTMENT OF HOMELAND SECURITY

Federal Emergency Management Agency

[Docket ID FEMA-2017-0002; Internal Agency Docket No. FEMA-B-1720]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before September 20, 2017.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1720, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: May 24, 2017.
Roy E. Wright,
Deputy Associate Administrator for Insurance and Mitigation, Department of Homeland Security, Federal Emergency Management Agency.

I. Non-watershed-based studies:

Community | Community map repository address
Los Angeles County, California and Incorporated Areas
Maps Available for Inspection Online at: http://www.fema.gov/preliminaryfloodhazarddata
Project: 16-09-2548S Preliminary Date: September 30, 2016
City of Culver City | City Hall, 9770 Culver Boulevard, 2nd Floor, Culver City, CA 90232.
City of Los Angeles | Department of Public Works, 1149 South Broadway, Suite 810, Los Angeles, CA 90015.
Unincorporated Areas of Los Angeles County | Los Angeles County Watershed Management, 900 South Fremont Avenue, Alhambra, CA 91803.
Kane County, Illinois and Incorporated Areas
Maps Available for Inspection Online at: http://www.fema.gov/preliminaryfloodhazarddata
Project: 11-05-1526S Preliminary Date: October 8, 2015
City of St. Charles | St. Charles City Hall, 2 East Main Street, St. Charles, IL 60174.
Unincorporated Areas of Kane County | Kane County Government Center Building A, Water Resources Department, 719 Batavia Avenue, Geneva, IL 60134.
Johnson County, Indiana and Incorporated Areas
Maps Available for Inspection Online at: http://www.fema.gov/preliminaryfloodhazarddata
Project: 17-05-0798S Preliminary Date: August 19, 2014
City of Franklin | City Hall Planning Department, 70 East Monroe Street, Franklin, IN 46131.
City of Greenwood | City Center Planning Department, 300 South Madison Avenue, Greenwood, IN 46142.
Unincorporated Areas of Johnson County | Johnson County Courthouse Annex Building, 86 West Court Street, Franklin, IN 46131.
Jefferson County, Missouri and Incorporated Areas
Maps Available for Inspection Online at: http://www.fema.gov/preliminaryfloodhazarddata
Project: 11-07-1077S Preliminary Date: October 28, 2016
City of Arnold | City Hall, 2101 Jeffco Boulevard, Arnold, MO 63010.
City of Byrnes Mill | City Hall, 141 Osage Executive Circle, Byrnes Mill, MO 63051.
City of Crystal City | City Hall, 130 Mississippi Avenue, Crystal City, MO 63019.
City of De Soto | City Hall, 17 Boyd Street, De Soto, MO 63020.
City of Festus | City Hall, 711 West Main Street, Festus, MO 63028.
City of Herculaneum | City Hall, 1 Parkwood Court, Herculaneum, MO 63048.
City of Hillsboro | City Hall, 101 Main Street, Hillsboro, MO 63050.
City of Kimmswick | City Hall, 6041 3rd Street, Kimmswick, MO 63053.
City of Olympian Village | Olympian Village City Hall, 205 Kronos Drive, De Soto, MO 63020.
City of Pevely | City Hall, 401 Main Street, Pevely, MO 63070.
Town of Scotsdale | Jefferson County Annex, 725 Maple Street, Hillsboro, MO 63050.
Unincorporated Areas of Jefferson County | Jefferson County Annex, 725 Maple Street, Hillsboro, MO 63050.
Village of Cedar Hill Lakes | Cedar Hill Lakes Village Office, 7344B Springdale Drive, Cedar Hill, MO 63016.
Miami County, Ohio and Incorporated Areas
Maps Available for Inspection Online at: http://www.fema.gov/preliminaryfloodhazarddata
Project: 14-05-9582S Preliminary Date: August 5, 2016
City of Piqua | City Hall, 201 West Water Street, Piqua, OH 45356.
City of Troy | City Hall, 100 South Market Street, Troy, OH 45373.
Unincorporated Areas of Miami County | Miami County Safety Building, 201 West Main Street, Troy, OH 45373.

[FR Doc. 2017-12976 Filed 6-21-17; 8:45 am]

BILLING CODE 9110-12-P